DEPARTMENT OF TRANSPORTATION

Surface Transportation Board

[STB Docket No. MC-F-20976]

Tedesco Family ESB Trust—Acquisition and Merger—American Limousine Service, Inc., and Academy Express, Inc.

AGENCY: Surface Transportation Board, Transportation.

ACTION: Notice tentatively approving finance transaction.

SUMMARY: Tedesco Family ESB Trust, Francis Tedesco and Mark Tedesco, settlers, of Hoboken, NJ (Tedesco Family Trust or applicant),¹ a noncarrier, has filed an application under 49 U.S.C. 14303 for the acquisition of American Limousine Service, Inc. (MC-186879), and Academy Express, Inc. (formerly, Inner Circle Qonexions, Inc.) (MC-145482),² motor carriers of passengers, and their subsequent merger, and the merger of Academy Bus Tours, Inc. (PA), and Commuter Bus Line, Inc., into Academy Express, Inc., which will be the surviving entity. Persons wishing to oppose the application must follow the rules at 49 CFR 1182.5 and 1182.8. The Board has tentatively approved the transaction, and, if no opposing comments are timely filed, this notice will be the final Board action.

¹ Tedesco Family Trust directly controls two motor carriers of passengers, Academy Bus Tours, Inc. (MC-165004), and Academy Lines, Inc. (MC-106207). It indirectly controls, through its noncarrier subsidiary, Franmar Logistics, Inc., of Hoboken, NJ, four motor carriers of passengers, Academy Bus Tours, Inc. (PA) (MC-215354), Academy Express, Inc. (MC-228481), Commuter Bus Line, Inc. (MC-162133), and No. 22 Hillside Corp. (MC-182453), and through its noncarrier subsidiaries, Franmar Equities, Inc., of Hoboken, NJ, and Consolidated Bus Service, Inc., one motor carrier of passengers, Funaway Tours of New Jersey, Inc. (MC-174942).

² Inner Circle Qonexions, Inc., filed for a name change in June 1995. It now has the same name as one of Tedesco Family Trust's existing carrier subsidiaries and will be merged into that subsidiary upon consummation of this transaction.

DATES: Comments must be filed by January 8, 2001. Applicant may file a reply by January 22, 2001. If no comments are filed by January 8, 2001, the approval is effective on that date.

ADDRESSES: Send an original and 10 copies of any comments referring to STB Docket No. MC-F-20976 to: Surface Transportation Board, Office of the Secretary, Case Control Unit, 1925 K Street, NW., Washington, DC 20423-0001. In addition, send one copy of comments to applicant's representative: Fritz R. Kahn, 1920 N Street, NW., (8th Floor), Washington, DC 20036-1601.

FOR FURTHER INFORMATION CONTACT: Beryl Gordon, (202) 565-1600. (TDD for the hearing impaired: 1-800-877-8339.)

SUPPLEMENTARY INFORMATION: The carriers being acquired and those being merged all hold federally issued operating authority and provide either local commuter bus service and other regular-route operations, or special and charter operations, or a combination of both. Collectively, these carriers operate between New York, NY, and various points in New Jersey and Pennsylvania.

Under 49 U.S.C. 14303(b), we must approve and authorize a transaction we find consistent with the public interest, taking into consideration at least: (1) The effect of the transaction on the adequacy of transportation to the public; (2) the total fixed charges that result; and (3) the interest of affected carrier employees.

Applicant has submitted the information required by 49 CFR 1182.2, including information to demonstrate that the proposed transaction is consistent with the public interest under 49 U.S.C. 14303(b). Specifically, applicant has shown that the proposed transaction will have a positive effect on the adequacy of transportation to the public and will result in no increase in fixed charges and no changes in employment. See 49 CFR 1182.2(a)(7). Additional information may be obtained from applicant's representative.

On the basis of the application, we find that the proposed acquisition and merger are consistent with the public interest and should be authorized. If any opposing comments are timely filed, this finding will be deemed vacated and, unless a final decision can be made on the record as developed, a procedural schedule will be adopted to reconsider the application. See 49 CFR 1182.6(c). If no opposing comments are filed by the expiration of the comment period, this decision will take effect automatically and will be the final Board action.

Board decisions and notices are available on our website at http://WWW.STB.DOT.GOV.

This decision will not significantly affect either the quality of the human environment or the conservation of energy resources.

It Is Ordered

1. The proposed acquisition and merger is approved and authorized, subject to the filing of opposing comments.

2. If timely opposing comments are filed, the findings made in this decision will be deemed vacated.

3. This decision will be effective on January 8, 2001, unless timely opposing comments are filed.

4. A copy of this notice will be served on: (1) the U.S. Department of Transportation, Federal Motor Carrier Safety Administration—HMCE-20, 400 Virginia Avenue, SW., Suite 600, Washington, DC 20024; (2) the U.S. Department of Justice, Antitrust Division, 10th Street & Pennsylvania Avenue, NW., Washington, DC 20530; and (3) the U.S. Department of Transportation, Office of the General Counsel, 400 7th Street, SW., Washington, DC 20590.

Decided: November 15, 2000.
By the Board, Chairman Morgan, Vice Chairman Burkes, and Commissioner Clyburn.
Vernon A. Williams,
Secretary.

[FR Doc. 00-29728 Filed 11-21-00; 8:45 am]

BILLING CODE 4515-00-P